DEPARTMENT OF ENERGY

Federal Energy Regulatory Commission

[Docket No. AD21-13-000]

Climate Change, Extreme Weather, and Electric System Reliability; Notice Inviting Post-Technical Conference Comments

On June 1, 2021 and June 2, 2021, the Federal Energy Regulatory Commission (Commission) staff convened a technical conference to discuss issues surrounding the threat to electric system reliability posed by climate change and extreme weather events.

All interested persons are invited to file post-technical conference comments to address the questions raised below and, if they wish, any other issues raised during the technical conference or identified in the Supplemental Notices of Technical Conference issued March 15 and May 21, 2021. Commenters need not answer all of the questions, but commenters are encouraged to organize responses using the numbering and order in the below questions. Commenters are also invited to reference material previously filed in this docket but are encouraged to avoid repetition or replication of their previous comments. Comments must be submitted on or before 45 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

Rahim Amerkhail (Technical Information), Office of Energy Policy and Innovation, (202) 502-8266, Rahim.Amerkhail@ferc.gov

Michael Haddad (Legal Information), Office of the General Counsel, (202) 502-8088, Michael.Haddad@ferc.gov

Dated: August 11, 2021.
Kimberly D. Bose,
Secretary.

[FR Doc. 2021-17626 Filed 8-16-21; 8:45 am]

BILLING CODE 6717-01-P